DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit # | Issuing port
Linda S. Schultz, dba
PCI Import Services | 53-02-BBR | Houston.
World Commerce Services, Inc | 28-01-754 | San Francisco.
Patricia A. Sanders | 01-17-005 | Atlanta.
Christopher A. LaVenture | 38-02-MJ1 | Detroit.
T.H. Weiss (Houston), Inc | 5302-006 | Houston
Charter Brokerage Corporation | 14664 | New York.

Dated: July 22, 2004.
Jayson P. Ahern,
Assistant Commissioner, Office of Field Operations.

[FR Doc. 04-17496 Filed 7-30-04; 8:45 am]

BILLING CODE 4820-02-P